DEPARTMENT OF AGRICULTURE

Forest Service

Uinta-Wasatch-Cache National Forest Resource Advisory Committee

AGENCY: Forest Service, USDA.

ACTION: Notice of meeting.

SUMMARY: The Uinta-Wasatch-Cache National Forest Resource Advisory Committee will conduct a meeting in Salt Lake City, Utah. The committee is meeting as authorized under the Secure Rural Schools and Community Self-Determination Act (Pub.L 110-343) and in compliance with the Federal Advisory Committee Act. The purpose is to finalize the review of project submittals.

DATES: The meeting will be held on September 22, 2011, from 3 to 5:30 p.m.

ADDRESSES: The meeting will be held at the Salt Lake County Government Center, Room S1002, 2001 South State Street, Salt Lake City, Utah. Written comments should be sent to Loyal Clark, Uinta-Wasatch-Cache National Forest, 88 West 100 North, Provo, Utah 84601. Comments may also be sent via e-mail to lfclark@fs.fed.us, via facsimile to 801-342-5144.

All comments, including names and addresses when provided, are placed in the record and are available for inspection and copying. The public may inspect comments received at the Uinta-Wasatch-Cache National Forest, 88 West 100 North, Provo, Utah 84601.

FOR FURTHER INFORMATION CONTACT: Loyal Clark, RAC Coordinator, USDA, Uinta-Wasatch-Cache National Forest, 88 West 100 North, Provo, Utah 84601; 801-342-5117; lfclark@fs.fed.us.

SUPPLEMENTARY INFORMATION: The meeting is open to the public. The following business will be conducted: (1) Finalize project recommendations, and (2) schedule site monitoring visits. Persons who wish to bring related matters to the attention of the Committee may file written statements with the Committee staff before or after the meeting.

Dated: August 24, 2011.
Cheryl F. Probert,
Deputy Forest Supervisor.

[FR Doc. 2011-22085 Filed 8-29-11; 8:45 am]

BILLING CODE P